DEPARTMENT OF TRANSPORTATION

Federal Aviation Administration

Public Notice for a Change in Use of Aeronautical Property at Houlton International Airport, Houlton, ME

AGENCY: Federal Aviation Administration (FAA), DOT.

ACTION: Request for Public Comments.

SUMMARY: The FAA is requesting public comment on the Town of Houlton's request to change a portion (4.68 acres) of Airport property from aeronautical use to nonaeronautical use. The property address is 84 Aviation Drive, Houlton, Maine 04730. Upon disposition, the property will be used as a wood pellet production plant. The Town acquired the property by Surplus Property Deed dated July 14, 1947.

Section 125 of The Wendell H. Ford Aviation Investment and Reform Act for the 21st Century (AIR 21) requires the FAA to provide an opportunity for public notice and comment to the “waiver” or “modification” of a sponsor's Federal obligation to use certain airport property for aeronautical purposes.

The disposition of proceeds from the disposal of airport property will be in accordance with FAA's Policy and Procedures Concerning the Use of Airport Revenue, published in the Federal Register on February 16, 1999.

DATES: Comments must be received on or before May 3, 2010.

ADDRESSES: Documents are available for review by appointment by contacting Mr. Doug Hazlett, Town Manager at 21 Water Street, Houlton, Maine, Telephone (207) 532-7111 or by contacting Donna R. Witte, Federal Aviation Administration, 16 New England Executive Park, Burlington, Massachusetts, Telephone 781-238-7624.

FOR FURTHER INFORMATION CONTACT: Donna R. Witte at the Federal Aviation Administration, 12 New England Executive Park, Burlington, Massachusetts 01803, Telephone 781-238-7624.

SUPPLEMENTARY INFORMATION: The following is a legal description of the property located in the Town of Houlton, County of Aroostook, State of Maine as shown on a plan prepared by Stantec Consulting Services, Inc., dated February 8, 2010, entitled “Houlton International Airport, Proposed FAA Property Release, Mess Hall Property”: A roughly triangular parcel of land as shown on a Plan prepared by Stantec Consulting Services Inc., William A. Gerrish PLS #2023, dated February 8, 2010, entitled “Houlton International Airport, Proposed FAA Property Release, Mess Hall Property”; on the referenced Plan the parcel is enclosed by “Range Drive” on the east, “Airport Drive” on the northwest, and “Aviation Drive” on the south.

Said parcel is more particularly described as follows: Commencing at a concrete monument at the most easterly corner of Lot 20 as shown on said Plan, said monument also marking the intersection of the southerly limit of the right-of-way of Wesson Drive with the westerly limit of the right-of-way of Airport Drive, thence crossing said Airport Drive on a Maine State Grid bearing of South 16°31′58″ East, a distance of 90.23 feet, more or less, to the intersection of the easterly limit of the right-of-way of Airport Drive with the westerly limit of the right-of-way of Range Drive, said intersection being the Point of Beginning; Thence, following the westerly limit of the right-of-way of Range Drive: South 2°46′31″ W, a distance of 923.82 feet, more or less, to the intersection of the westerly limit of the right-of-way of Range Drive with the northerly limit of the right-of-way of Aviation Drive; Thence following the northerly limit of the right-of-way of Aviation Drive: North 88°58′52″ West, a distance of 84.45 feet, more or less, to an angle point in the road;

Thence, continuing along the northerly limit of the right-of-way of aforementioned Aviation Drive: North 70°37′46″ West, a distance of 362.69 feet, more or less, to the intersection of the northerly limit of the right-of-way of Aviation Drive with the easterly limit of the right-of-way of Airport Drive; Thence, following the easterly limit of the right-of-way of Airport Drive: North 30°28′32″ East, a distance of 929.33 feet, more or less, to the Point of Beginning.

The above described parcel contains 4.69 acres, more or less.

Issued in Burlington, Massachusetts on March 10, 2010.
LaVerne F. Reid,
Manager, Airports Division, New England Region.

[FR Doc. 2010-7077 Filed 4-1-10; 8:45 am]

BILLING CODE 4910-13-M